DEPARTMENT OF AGRICULTURE

Forest Service

RIN 0596-AC19

Tribal Watershed Forestry Assistance Program

AGENCY: Forest Service, USDA.

ACTION: Advanced notice of interim final guideline; request for comment.

SUMMARY: The Forest Service is announcing its intent to prepare an interim final guideline, in cooperation with Indian tribes, for the Tribal Watershed Forestry Assistance Program, as authorized by Title III, Section 303, of the Healthy Forests Restoration Act of 2003 (Pub. L. 108-148). The Tribal Watershed Forestry Assistance Program (TWFAP) is administered by the Forest Service and implemented by participating Indian tribes. The purpose of the TWFAP is to build and strengthen watershed partnerships that focus on forested landscapes at the State, regional, tribal, and local levels; to provide tribal forestry best-management practices and water quality technical assistance directly to Indian tribes; to provide technical guidance to tribal land managers and policy makers for water quality protection through forest management; to complement tribal efforts to protect water quality and provide enhanced opportunities for consultation and cooperation among Federal agencies and tribal entities charged with responsibility for water and watershed management; and to provide enhanced forest resource data and support for improved implementation and monitoring of tribal forestry best-management practices. In accordance with Forest Service policy, formal consultation is ongoing with Indian tribes on development of this new program. This notice supplements the consultation process. Comments are invited and will be considered in the development of the interim final guideline. Additional direction on the implementation of TWFAP will be issued to the Forest Service Manual Chapter 3500, Cooperative Watershed Management.

DATES: Comments must be received by July 26, 2004.

ADDRESSES: Send written comments to Karen Solari, USDA Forest Service, Cooperative Forestry, Mail Stop Code 1123, 1400 Independence Avenue, SW., Washington, DC 20250-0003; via electronic mail to ksolari@fs.fed.us; or via facsimile to (202) 205-1271. Comments also may be submitted via the World Wide Web/Internet at http://www.regulations.gov. The agency cannot confirm receipt of comments. All comments, including names and addresses when provided, are placed in the record and are available for public inspection and copying. The public may inspect comments during regular business hours at the office of the Cooperative Forestry Staff, 4th Floor SE., Yates Building, 201 14th Street, SW., Washington, DC. Visitors are encouraged to call ahead to (202) 205-1389 to facilitate entry into the building.

FOR FURTHER INFORMATION CONTACT: Karen Solari, USDA Forest Service, Cooperative Forestry, (202) 205-1274, or Susan Johnson, USDA Forest Service, Office of Tribal Relations, sjohnson08@fs.fed.us, (303)275-5760.

SUPPLEMENTARY INFORMATION: The Tribal Watershed Forestry Assistance Program (TWFAP) is established in the Healthy Forests Restoration Act of 2003 to provide technical, financial, and related assistance to Indian tribes for the purpose of expanding tribal stewardship capacities and activities through tribal forestry best-management practices and other means at the tribal level to address watershed issues on land under the jurisdiction of or administered by the Indian tribes. A copy of the Healthy Forests Restoration Act of 2003, Title III, and other information on the watershed forestry program can be found at: http://www.fs.fed.us/cooperativeforestry/programs/wfa/. The TWFAP provides for (1) Development a program of technical assistance; (2) Annual awards to participating tribes for watershed forestry projects; (3) Selection of priority watersheds to target watershed forestry projects for funding; and (4) An opportunity to create tribal watershed forester positions. At a minimum, the TWFAP interim final guideline will address these provisions.

In addition, the TWFAP interim final guideline will establish the criteria that Indian tribes should follow in implementing the TWFAP. These will include criteria for priority watershed selection, acceptable watershed forest projects, and best management practice programs. The guideline also will establish monitoring and accomplishment reporting requirements. The guideline will, to the extent consistent with Federal accountability and oversight responsibility, allow flexibility to the tribes to implement the program in a manner consistent with local needs and opportunities. Comments are solicited on these provisions and other issues that should be included in the interim final guideline.

The interim final guideline and additional direction issued to Forest Service Manual 3500 will be developed by a workgroup of representatives from Indian tribes, and regional and national Forest Service State and Private Forestry.

The agency goal is to publish a notice of issuance of the interim final guideline with request for further comment in the Federal Register by October, 2004. A separate advance notice of an interim final guideline for the Watershed Forestry Assistance Program, to be developed in cooperation with State Foresters, has been published in today's Federal Register.

Dated: May 6, 2004.
Sally D. Collins,
Associate Chief.

[FR Doc. 04-11735 Filed 5-24-04; 8:45 am]

BILLING CODE 3410-11-P